DEPARTMENT OF THE INTERIOR

Bureau of Land Management

[CA-680-04-1920-EA-4819]

Closure and Restriction Orders, California and Nevada

AGENCY: Bureau of Land Management, Interior.

ACTION: Temporary closure of selected public lands in California and Nevada during a research event known as the “Grand Challenge for Autonomous Ground Vehicles” to be held on Saturday, March 13, 2004.

SUMMARY: The Defense Advanced Research Projects Agency (DARPA) has official Bureau of Land Management authority to conduct a research event known as the “Grand Challenge for Autonomous Ground Vehicles” on California and Nevada lands in March, 2004. In an attempt to accelerate the development of autonomous vehicle technology, qualified, autonomous, unmanned vehicles will navigate along a specific route in compliance with parameters provided by DARPA; all vehicles will be under the control of DARPA during the event. The District Manager of the California Desert District (California) and the Field Manager of the Las Vegas Field Office (Nevada) of the Bureau of Land Management announce the temporary closure of selected public lands under their administration. This action involves two area closures and one route closure and is being taken to help ensure public safety and prevent unnecessary environmental degradation during the course of this event. At 4:30 a.m., Pacific Standard Time, on March 13, 2004, a final route of travel, taken from a total of 17 possible routes analyzed in the Environmental Assessment for the Grand Challenge will be announced to the general public and to 20 (twenty) teams which have constructed autonomous (robotic) vehicles for this event. This research event will involve twenty (20) fully autonomous ground vehicles which will be required to complete the entire course route, beginning in California and ending in Nevada, within a ten-hour period on that day. The event will begin at 6:30 a.m., Pacific Standard Time, in California. The public is welcome to attend but will be restricted to designated viewing areas during the event. The closures include a portion of a recreational area in California, a portion of public lands in Nevada, and the final route selected for the event.

DATES: This closure order goes into effect at 6:30 a.m. on Saturday, March 13, 2004, and shall remain in effect until 6:30 a.m. on Sunday, March 14, 2004, or until deemed safe for the public by law enforcement authorities. For safety reasons, the Grand Challenge event can only be run during daylight hours. Any other situation will require local direction in order to complete the event by March 21, 2004.

FOR FURTHER INFORMATION CONTACT: Barry Nelson, BLM Law Enforcement Chief Ranger, BLM Barstow Field Office, 2601 Barstow Road, Barstow, California 92311. Telephone 760-252-6070.

SUPPLEMENTARY INFORMATION:

1. Closure Area One (Within a Recreational Area in California)

San Bernardino Meridian

T. 7 N., R. 1 W., sections. 4, 5, 6, 7, and 8.

T. 8 N., R. 1 W., sections. 18, 19, 20, 29, 30, 31, 32, and 33.

T. 7 N., R. 2 W., sections. 1, 2, 3, 4, 5, 8, 9, 10, 11, and 12.

T. 8 N., R. 2 W., sections. 8, 9, 10, 11, 12, 13, 14, 15, 16, 17, 20, 21, 22, 23, 24, 25, 26, 27, 28, 29, 32, 33, 34, 35, and 36.

2. Closure Area Two (On Public Lands in Nevada)

San Bernardino Meridian

T. 24 S., R. 8 E., sections. 22 and 23.

Mt. Diablo Meridian

T. 20 S., R. 52 E., sections. 25, 26, and 36.

T. 20 S., R. 53 E., sections. 13, 14, 15, 16, 20, 21, 22, 23, 24, and 25.

T. 20 S., R. 54 E., sections. 29, 30, 32, 33, and 34.

T. 21 S., R. 54 E., sections. 2, 3, 4, 10, 11, 12, and 13.

T. 21 S., R. 55 E., sections. 18, 19, 20, 21, 27, 28, 29, 34, and 35.

T. 22 S., R. 55 E., sections. 1, 2, and 12.

T. 22 S., R. 56 E., sections. 7, 8, 16, 17, 21, 22, 23, 25, 26, and 27.

T. 22 S., R. 57 E., sections. 22, 23, 24, 27, 28, 29, and 30.

T. 22 S., R. 58 E., sections. 19, 20, 24, 25, 26, 28, and 29.

T. 22 S., R. 59 E., sections. 13, 14, 15, 16, 17, 19, 20, and 24.

T. 22 S., R. 60 E., sections. 13, 19, 20, 21, 22, 23, and 24.

T. 22 S., R. 61 E., sections. 8, 9, 16, 17, 18, 20, 21, 24, 25, 26, 28, 29, 33, 34, and 35.

T. 22 S., R. 62 E., sections. 13, 14, 15, 16, 17, 19, and 20.

T. 22 S., R. 63 E., sections. 34, 35 (additional corner through Henderson with no numbered section).

T. 23 S., R. 60 E., section. 36.

T. 23 S., R. 61 E., sections. 3, 4, 5, 8, 9, 17, 19, 20, 30, and 31.

T. 23 S., R. 63 E., sections. 2, 11, 14, 23, 26, and 35.

T. 24 S., R. 57 E., sections. 12, 13, 14, 22, 23, 24, 27, 28, 32, and 33.

T. 24 S., R. 58 E., sections. 7, 8, 15, 16, 17, 22, 23, 25, 26, and 36.

T. 24 S., R. 59 E., sections. 31 and 32.

T. 24 S., R. 60 E., sections. 1, 2, 10, 11, 12, 15, 16, 21, 22, 27, 28, 29, 31, and 34.

T. 24 S., R. 63 E., sections. 3, 10, 15, 22, 27, 28, and 33.

T. 25 S., R. 57 E., sections. 4, 5, 7, and 8.

T. 25 S., R. 59 E., sections. 3, 4, 5, 10, 11, 12, 13, 14, 22, 23, 24, 26, 27, 34, 35, and 36.

T. 25 S., R. 60 E., sections. 3, 4, 5, 6, 7, 8, 9, 10, 16, 17, 21, 22, 25, 26, 27, 35, and 36.

T. 25 S., R. 63 E., sections. 4, 9, 16, 20, 21, 28, 29, and 32.

T. 26 S., R. 59 E., sections. 1, 2, 3, 4, 9, 10, 15, 16, 20, 21, 22, 27, 28, 29, 32, 33, and 34.

T. 26 S., R. 60 E., sections. 2, 3, 4, 5, 6, 7, and 8.

T. 26 S., R. 63 E., sections. 5, 8, 17, 20, 28, 29, and 33.

T. 27 S., R. 59 E., sections. 4, 5, 6, 7, 8, 9, and 16.

T. 27 S., R. 63 E., sections. 3, 4, 10, 11, 14, 23, 26, and 35.

T. 28 S., R. 60 E., sections. 25, and 26.

T. 28 S., R. 61 E., sections. 12, 13, 14, 15, 20, 21, 22, 29, and 30.

T. 28 S., R. 62 E., sections. 7, 15, 16, 17, 18, 22, 23, 24, and 25.

T. 28 S., R. 63 E., sections. 2, 11, 14, 22, 23, 27, 28, 29, 30, 33, 34, and 35.

T. 29 S., R. 63 E., sections. 2, 3, 4, 9, 10, 11, 12, 14, 15, 16, 21, 23, 24, 25, 28, 33, and 36.

T. 30 S., R. 63 E., sections. 1, 4, 9, 12, 13, 16, 21, 26, and 33.

T. 30 S., R. 64 E., sections. 18, 19, 30, and 31.

T. 31 S., R. 63 E., sections. 4 and 9.

T. 31 S., R. 64 E., sections. 6, 7, 8, 17, 20, 29, and 32.

T. 32 S., R. 64 E., sections. 4, 5, and 9.

3. Closure Area Three (Description of the Seventeen [17] Possible Routes of the Grand Challenge Route Network)

Central Route 1

Central Route 1 begins on the open desert floor in the Stoddard Valley Off-Highway Vehicle (OHV) area. Leaving Stoddard Valley, it crosses Route 247 (1) and proceeds northeast over Daggett Ridge. It veers back to the northwest on Camp Rock Road (2), following Pendleton Road to Nebo Road to National Trails Highway. Central Route 1 continues on the Boulder Corridor powerline road (3) to a Union Pacific Railroad right-of-way, which it follows northeast to Afton Canyon, California. Upon exiting the canyon, the route proceeds through the Rasor OHV area, departing via Rasor Road. After Rasor Road, the route follows the Arrowhead Trail and Mead-Adelanto powerline road to the northeast, through Baker, California, and over Clark Mountain. From that point, it crosses into Nevada and continues into Primm from the southwest.

Central Route 2

Central Route 2 begins on the open desert floor in the Stoddard Valley OHV area. Leaving Stoddard Valley, it crosses Route 247 (1) and proceeds northeast over Daggett Ridge. It veers back to the northwest on Camp Rock Road (2), following Pendleton Road to Nebo Road to National Trails Highway. Central Route 2 continues on the Boulder Corridor powerline road (3) to a Union Pacific Railroad right-of-way, which it follows northeast to Afton Canyon, California. Upon exiting the canyon it proceeds through the Rasor OHV area, departing via Rasor Road. After Rasor Road, the Route follows the Arrowhead Trail and Mead-Adelanto powerline road to the northeast, through Baker, California, and over Clark Mountain. From that point, it joins Route 164 (9) and travels southeast. The Route proceeds on Nipton Road, California (15) and a Union Pacific Railroad right-of-way, crossing into Nevada arriving at Primm from the southeast.

Central Route 3

Central Route 3 begins on the open desert floor in the Stoddard Valley OHV area. Leaving Stoddard Valley, it crosses Route 247 (1) and proceeds northeast over Daggett Ridge. It veers back to the northwest on Camp Rock Road (2), following Pendleton Road to Nebo Road to National Trails Highway. Central Route 3 continues on National Trails Highway from Daggett to the southeast to Goffs Road, California (12). The Route proceeds north along the Metropolitan District powerline road, crosses into Nevada and intersects Route 164 near Searchlight, Nevada (14). The Route crosses back into California, follows Nipton Desert Road (15) and a Union Pacific Railroad right-of-way to enter Primm, Nevada from the southeast.

Central Route 4

Central Route 4 begins on the open desert floor in the Stoddard Valley OHV area. Leaving Stoddard Valley, it crosses Route 247 (1) and proceeds northeast over Daggett Ridge. It veers back to the northwest on Camp Rock Road (2), following Pendleton Road to Nebo Road to National Trails Highway. Central Route 4 continues on National Trails Highway from Daggett to the southeast to Mountain Springs Road (13), crossing I-40 to Goffs Road, California (12). The Route proceeds north along the Metropolitan Water District powerline road, crosses into Nevada and intersects Route 164 near Searchlight, Nevada (14). The Route follows Route 164 and crosses back into California near Nipton, travels west, crossing I-15 and follows the Mead-Adelanto powerline road to enter Primm, Nevada, from the southwest.

Mixed Route 1

Mixed Route 1 begins on the open desert floor in the Stoddard Valley OHV area. It departs Stoddard Valley from the northeast, crosses Route 247 (1) and proceeds northeast over Daggett Ridge, then south on Camp Rock Road (2) to Lucerne Valley, California. From Lucerne Valley, Mixed Route 1 continues southeast on Route 247 into Yucca Valley, where it intersects Route 62 (18) and proceeds east to Twenty-Nine Palms, California. In Twenty-Nine Palms, the route leads to Amboy Road, California (19) via local roads. The Route then proceeds right on National Trails Highway to the southeast to Goffs Road (12), where it turns north along the Metropolitan Water District powerline road, traveling into Nevada and Route 164, near Searchlight, Nevada (14). Mixed Route 1 follows Nipton Desert Road (15) and a Union Pacific Railroad right-of-way into Primm, Nevada, from the southeast.

Mixed Route 2

Mixed Route 2 begins on the open desert floor in the Stoddard Valley OHV area and departs Stoddard Valley to the south. This departure from Stoddard Valley (16) follows Stoddard Wells Road toward Victorville, California, and Route 18 (17) to Lucerne Valley. From Lucerne Valley, the route continues southeast on Route 247 into Yucca Valley, where it intersects Route 62 (18) east to Twenty-Nine Palms, and continues east on Route 62. From Route 62, Mixed Route 2 proceeds north on Iron Mountain Road (20) to Cadiz Road, California. The route follows Cadiz Road to National Trails Highway, which it follows, to the southeast, to Mountain Springs Road (13) to Goffs Road, California (12). From there, it heads north along the Metropolitan Water District powerline road, traveling into Nevada and Route 164 near Searchlight, Nevada (14). The route then follows Route 164 west into California, at Nipton, and follows the Mead-Adelanto powerline road to Primm, Nevada, from the southwest.

Mixed Route 3

Mixed Route 3 begins on the open desert floor in the Stoddard Valley OHV area. Leaving Stoddard Valley, the Route crosses Route 247 (1) and proceeds northeast over Daggett Ridge. Mixed Route 3 then veers back to the northwest on Camp Rock Road (2), following Pendleton Road to Nebo Road, to National Trails Highway. It then continues on the Boulder Corridor powerline road (3) to a Union Pacific Railroad right-of-way, which it follows northeast, toward Afton Canyon, California. Upon exiting the canyon it proceeds through the Rasor OHV area, departing via Basin Road. This route picks up the Arrowhead Trail, to the west, and joins the Boulder Corridor powerline road (8), continuing on the Boulder Corridor powerline road to Route 127. The route then turns north on Route 127 (5) and follows Route 127 to Furnace Creek Road, California (6), and turns right, proceeding to Excelsior Mine Road. Mixed Route 3 then proceeds east into Nevada, on Kingston Road, to Route 161, which crosses I-15 north of Primm, Nevada. The Route intersects Old Las Vegas Boulevard South and follows local trails and roads to arrive at Primm.

Mixed Route 4

Mixed Route 4 begins on the open desert floor in the Stoddard Valley OHV area and departs Stoddard Valley from the south. This departure from Stoddard Valley (16) utilizes the Lucerne Valley Cutoff to Route 247 to Lucerne Valley, California. From Lucerne Valley, Mixed Route 4 continues southeast on Route 247 into Yucca Valley, California, where it intersects Route 62 (18) and proceeds east to Twenty-Nine Palms, California. It then proceeds east, to Vidal Junction, California, where it turns north on Route 95. Mixed Route 4 follows Route 95 north to Searchlight, Nevada (14), where it then turns west on Route 164. The route then proceeds on Route 164 back into California to the west, through Nipton, California, turning northeast on the Mead-Adelanto powerline road and entering Primm, Nevada, from the southwest.

Northern Route 1

Northern Route 1 begins on the open desert floor in the Stoddard Valley OHV area. Leaving Stoddard Valley, Northern Route 1 crosses Route 247 (1) and proceeds northeast over Daggett Ridge. It veers back to the northwest on Camp Rock Road (2), following Pendleton Road to Nebo Road to National Trails Highway. East of Daggett, Northern Route 1 leaves National Trails Highway and continues on the Boulder Corridor powerline road (3) to a Union Pacific Railroad right-of-way. Then it follows the Union Pacific Railroad right-of-way to Hacienda Drive, California (4), at which point it crosses I-15 and intersects the Boulder Corridor powerline road. Northern Route 1 then proceeds north on Route 127 (5) to Route 178, crossing into Nevada on Route 372 to Route 160, which crosses I-15 south of Las Vegas. It then intersects Old Las Vegas Boulevard South and follows local trails and roads to arrive at Primm, Nevada.

Northern Route 2

Northern Route 2 begins on the open desert floor in the Stoddard Valley OHV area. Leaving Stoddard Valley, it crosses Route 247 (1) and proceeds northeast over Daggett Ridge. It veers back to the northwest on Camp Rock Road (2), following Pendleton Road to Nebo Road to National Trails Highway. East of Daggett, Northern Route 2 leaves National Trails Highway and continues on the Boulder Corridor powerline road (3) to a Union Pacific Railroad right-of-way. It follows the Union Pacific Railroad right-of-way to Hacienda Drive, California (4), at which point it crosses I-15 and intersects the Boulder Corridor powerline road. The Northern Route 2 then crosses 127 (5), and continues on the Boulder Corridor powerline road and arrives at Primm, Nevada, from the southwest.

Northern Route 3

Northern Route 3 begins on the open desert floor in the Stoddard Valley OHV area. Leaving Stoddard Valley, it crosses Route 247 (1) and proceeds northeast over Daggett Ridge. It veers back to the northwest on Camp Rock Road (2), following Pendleton Road to Nebo Road to National Trails Highway. East of Daggett Northern Route 3 leaves National Trails Highway and continues on the Boulder Corridor powerline road (3) to a Union Pacific Railroad right-of-way. The Route follows the Union Pacific railroad to Hacienda Drive, California (4), at which point it crosses I-15 and intersects the Boulder Corridor powerline road. Northern Route 3 proceeds north on Route 127 (5) to Furnace Creek Road, California and turns right on Furnace Creek Road (6), proceeding to Excelsior Mine Road. The Route reconnects to the Boulder Corridor powerline road (7) and continues on this road to arrive at Primm, Nevada, from the southwest.

Northern Route 4

Northern Route 4 begins on the open desert floor in the Stoddard Valley OHV area. Leaving Stoddard Valley, it crosses Route 247 (1) and proceeds northeast over Daggett Ridge. It veers back to the northwest on Camp Rock Road (2), following Pendleton Road to Nebo Road to National Trails Highway. East of Daggett Northern Route 4 leaves National Trails Highway and continues on the Boulder Corridor powerline road (3) to a Union Pacific Railroad right-of-way. It follows the Union Pacific Railroad right-of-way to Hacienda Drive, California (4), at which point it crosses I-15 and intersects the Boulder Corridor powerline road. Northern Route 4 then proceeds north on Route 127 (5) to Furnace Creek Road, California and turns right on Furnace Creek Road (6), proceeding to Excelsior Mine Road. The Route then proceeds east, on Kingston Road, to Route 161, which crosses into Nevada, and I-15 north of Primm, Nevada, intersects Old Las Vegas Boulevard South and follows local trails and roads to arrive at Primm.

Southern Route 1

Southern Route 1 begins on the open desert floor in the Stoddard Valley OHV area. It departs Stoddard Valley from the northeast, on Route 247, and proceeds to Lucerne Valley, California. From Lucerne Valley, the route continues southeast on Route 247 into Yucca Valley, California, where it intersects Route 62 (18), traveling east toward Twenty-Nine Palms, California. Southern Route 1 continues on Route 62 to Vidal Junction, California, turning north on Route 95. The route continues north on Route 95 to Searchlight, Nevada (14), and on to Henderson, Nevada. At Henderson, the route turns southwest on Route 146 to Old Las Vegas Boulevard, traveling south along local trails and roads to arrive at Primm, Nevada.

Southern Route 2

Southern Route 2 begins on the open desert floor in the Stoddard Valley OHV area and departs Stoddard Valley to the south. This departure from Stoddard Valley (16) follows Stoddard Wells Road toward Victorville, California, and Route 18 (17), to Lucerne Valley, California. From Lucerne Valley, the route continues southeast on Route 247 into Yucca Valley, where it intersects Route 62 (18) east, toward Twenty-Nine Palms. Southern Route 1 continues east on Route 62 to Vidal Junction, California, turning north on Route 95. The route continues north on Route 95 to Searchlight, Nevada (14) and on to Henderson, Nevada. At Henderson, the route turns southwest on Route 146, to Old Las Vegas Boulevard, traveling south along local trails and roads to arrive at Primm, Nevada.

Southern Route 3

Southern Route 3 begins on the open desert floor in the Stoddard Valley OHV area and departs Stoddard Valley from the south. This departure from Stoddard Valley (16) utilizes the Lucerne Valley Cutoff to Route 247 to Lucerne Valley, California. From Lucerne Valley, the route continues southeast on Route 247, into Yucca Valley, where it intersects Route 62 (18) east, toward Twenty-Nine Palms, California. Southern Route 3 continues east on Route 62 to Vidal Junction, California, turning north on Route 95. The route continues north on Route 95 to Searchlight, Nevada (14) and on to Henderson, Nevada. At Henderson, the route turns southwest on Route 146 to Old Las Vegas Boulevard, traveling south along local trails and roads to arrive at Primm, Nevada.

Southern Route 4

Southern Route 4 begins on the open desert floor in the Stoddard Valley OHV area. It departs Stoddard Valley from the northeast and crosses Route 247 (1) and proceeds northeast over Daggett Ridge. This route then proceeds south, on Camp Rock Road (2), to Lucerne Valley, California. From Lucerne Valley, the route continues southeast on Route 247 into Yucca Valley, California, where it intersects Route 62 (18) east, toward Twenty-Nine Palms, California. Southern Route 4 continues east on Route 62 to Vidal Junction, California, turning north on Route 95. The Route continues north on Route 95 to Searchlight, Nevada (14), and on to Henderson, Nevada. At Henderson, the route turns southwest on Route 146 to Old Las Vegas Boulevard, traveling south along local trails and roads to arrive at Primm, Nevada.

Southern Route 5

Southern Route 5 begins on the open desert floor in the Stoddard Valley OHV area. It departs Stoddard Valley from the northeast, and follows Route 247 to Lucerne Valley. From Lucerne Valley, the route continues southeast on Route 247 into Yucca Valley, where it intersects Route 62 (18) east, toward Twenty-Nine Palms, California. Southern Route 5 continues east on Route 62 to Cadiz Road, California, and turns north on Cadiz Road (21). The Route follows Metropolitan Water District powerline road (22) to Goffs Road, California (12), and proceeds east on Goffs Road to Route 95. Southern Route 5 continues north on Route 95 to Searchlight, Nevada (14), and on to Henderson, Nevada. At Henderson, the route turns southwest on Route 146, to Old Las Vegas Boulevard, traveling south along local trails and roads to arrive at Primm, Nevada.

4. Closure

a. The final closure areas are located in California and Nevada; the final route closure will involve routes of travel within both the state of California and the state of Nevada and will be in effect from 6:30 a.m. on Saturday, March 13, 2004, for a period of 24 hours or until deemed safe for the public by law enforcement authorities.

b. The entire two areas and entire final route encompassed by this event, as listed in the legal descriptions above, are closed except for Law Enforcement personnel, BLM Officials directed involved in the event, Emergency Vehicles, and all Officials involved in the event. Access routes leading to the two areas and to the final route are closed to all vehicles, animals, and people.

c. The public is welcome to attend, however, those interested in viewing the event are restricted to certain viewing locations only.

d. No vehicle stopping or parking.

5. Exceptions

The above restrictions do not apply to emergency vehicles or vehicles used by persons directed involved in this event. Authority for closure of public lands and routes of travel is found in 43 CFR 8340 Subpart 8341; 43 CFR 8360, Subpart 8364.1, and 43 CFR 2932. Persons who violate this closure order are subject to fines and or arrest as prescribed by law.

Dated: February 4, 2004.
Harold Johnson,
Acting Field Manager, Barstow Field Office (CA-680).

[FR Doc. 04-5088 Filed 3-3-04; 11:29 am]

BILLING CODE 4310-40-P